FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th and Constitution Avenue NW, Washington, DC 20551-0001, not later than February 6, 2020.

A. Federal Reserve Bank of Chicago (Colette A. Fried, Assistant Vice President) 230 South LaSalle Street, Chicago, Illinois 60690-1414:

1. The Charles and Lois Welling Family Trust, Hutchinson Island, Florida, Lynnea Kay Gery, La Grange, Illinois, as special voting trustee; to acquire voting shares of United Bank Financial Corporation and thereby indirectly acquire voting shares of United Bank of Michigan, both of Grand Rapids, Michigan.

B. Federal Reserve Bank of Kansas City (Dennis Denney, Assistant Vice President) 1 Memorial Drive, Kansas City, Missouri 64198-0001:

1. The John G. Paterson and Ann P. Paterson Living Trust, John G. Patterson and Ann P. Paterson as co-trustees, all of San Ramon, California; Sharon P. McGuire, Boise, Idaho; Lawrence N. Paterson, Fremont, California; Thomas G. Paterson, San Francisco, California; and Janice L. Selvy, San Carlos, California; as members of the Paterson Family Group to retain voting shares of Bethany Bankshares, Inc. and thereby indirectly retain voting shares of BTC Bank, both of Bethany, Missouri.

C. Federal Reserve Bank of Minneapolis (Chris P. Wangen, Assistant Vice President), 90 Hennepin Avenue, Minneapolis, Minnesota 55480-0291:

1. Kelly A. Skalicky, New York, New York; the Norman C. Skalicky 2019 Revocable Trust, St. Cloud, Minnesota, Kelly A. Skalicky and Norman C. Skalicky, St. Cloud, Minnesota, as co-trustees; the Kelly A. Skalicky 2019 GRAT, New York, New York, Kelly A. Skalicky, trustee; and the 2019 Skalicky Family Gift Trust FBO Trenton Dean Skalicky, New York, New York, Kelly A. Skalicky, trustee; to acquire voting shares of Stearns Financial Services, Inc., St. Cloud, Minnesota, and thereby indirectly acquire voting shares of Stearns Bank NA, St. Cloud, Minnesota; Stearns Bank Holdingford NA, Holdingford, Minnesota; and Stearns Bank NA, Upsala, Minnesota. In addition, Cheryl R. Ryan, Elk River, Minnesota; Jeffery Dean Skalicky, Rosholt, South Dakota; the Cheryl R. Ryan 2019 GRAT, Elk River, Minnesota, Cheryl R. Ryan, trustee; the Jeffery D. Skalicky 2019 GRAT, Jeffery Dean Skalicky, trustee; Jan M. Hanson, Duvall, Washington; Johanna A. Ryan, Brooklyn, New York; and the 2012 Gift Trust FBO Barrett Chelsea Skalicky Doss, Barrett C. Skalicky Doss, trustee, both of Brooklyn, New York; to retain voting shares of Stearns Financial Services, Inc., and thereby indirectly retain voting shares of Stearns Bank NA, Stearns Bank Holdingford NA, and Stearns Bank NA, Upsala, Minnesota.

Board of Governors of the Federal Reserve System, January 17, 2020.
Yao-Chin Chao,
Assistant Secretary of the Board.

[FR Doc. 2020-01123 Filed 1-23-20; 8:45 am]

BILLING CODE P